DEPARTMENT OF DEFENSE

Department of the Army

[Docket ID: USA-2016-HQ-0025]

Privacy Act of 1974; System of Records

AGENCY: Department of the Army, DoD.

ACTION: Notice to alter a System of Records.

SUMMARY: The Department of the Army proposes to alter a system of records notice A0145-1 TRADOC, entitled “Army Reserve Officer's Training Corps (ROTC) and Financial Assistance Programs” to provide a central database of potential prospects for enrollment in the ROTC and the Senior Army ROTC program, provide training and commissioning of eligible cadets in active Army and to assist prospects by providing information concerning educational institutions having ROTC programs; scholarship information and applications, information on specialized programs such as nursing, Green to Gold and historically Black Colleges and Universities and information regarding other Army enlistment, reserve or National Guard programs. This program also administers the financial assistance program; renders the selection of recipients for 2, 3, and 4 year scholarships; monitor selectees performance (academic and ROTC) and also develop policies and procedures, compile statistics and render reports.

DATES: Comments will be accepted on or before July 27, 2016. This proposed action will be effective on the date following the end of the comment period unless comments are received which result in a contrary determination.

ADDRESSES: You may submit comments, identified by docket number and title, by any of the following methods:

• Federal Rulemaking Portal: http://www.regulations.gov.

Follow the instructions for submitting comments.

• Mail: Department of Defense, Office of the Deputy Chief Management Officer, Directorate for Oversight and Compliance, Regulatory and Audit Matters Office, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905; telephone (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act, as amended, were submitted on June 8, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 22, 2016.
Aaron Siegel,
Alternate OSD Federal Register Liaison Officer, Department of Defense.

A0145-1 TRADOC

System name:

Army Reserve Officer's Training Corps (ROTC) and Financial Assistance Programs (May 10, 2001, 66 FR 23899)

Changes:

System identifier:

Delete entry and replace with “A0145-1 AHRC.”

* * * * *

System location:

Delete entry and replace with “Commander, US Army Human Resources Command, 1600 Spearhead Division Avenue, Fort Knox, KY 40122-5500.”

* * * * *

Categories of records in the system:

Delete entry and replace with “Individual applications and/or prospect referrals for appointment which include personal data including: name, Social Security Number (SSN), sex, ethnicity, race, height, weight, date and place of birth, citizenship, home address, home and cell phone numbers, email address, marital status, number of dependents, parental information; parent/guardian home of record state, email address, mother's maiden name, name of high school, high school graduation date, grade point average, Scholastic Assessment Test, American College Testing, Preliminary Scholastic Assessment Testing scores, college admission status, college(s) expected to attend, desired academic major(s), academic transcripts and certificates of education to prior military service information, training, college board scores and test results, medical examination, acceptance/declination, interview board results, financial assistance document awards, ROTC contract and evaluation from Professor of Military Science commanding officer, photographs, references, correspondence between the member and the Army or other Federal agencies, letters of recommendation, inquiries regarding applicant's selection or non-selection, letter of appointment in Active Army on completion of ROTC status, security clearance documents, reports of Reserve Officer Training Corps Advanced, Ranger, or Basic Camp performance of applicant.”

Authority for maintenance of the system:

Delete entry and replace with “10 U.S.C. 3013, Secretary of the Army; 10 U.S.C. 2031, Junior Reserve Officers' Training Corps; 10 U.S.C. 2104, Advanced training; eligibility for; 10 U.S.C 2107, Financial assistance program for specially selected members; Army Regulation 145-1, Senior Reserve Officers' Training Corps Program: Organization, Administration, and Training; Army Regulation 145-2, Junior Reserve Officers' Training Corps Program: Organization, Administration, Operation, and Support; and E.O. 9397 (SSN), as amended.”

* * * * *

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

To the Federal Aviation Administration to obtain flight certification and/or licensing.

To the Department of Veterans Affairs for member Group Life Insurance and/or other benefits.

The DoD Blanket Routine Uses set forth at the beginning of the Army's compilation of systems of records notices may apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Paper records and electronic storage media.”

Retreivability:

Delete entry and replace with “By name and SSN.”

Safeguards:

Delete entry and replace with “DoD Components and approved users ensure that electronic records collected and used are maintained in controlled areas accessible only to authorized personnel in the performance of their duties. Physical security differs from site to site, access to computerized data is restricted by use of common access cards (CACs) and is accessible only by users with an authorized account. The system and electronic backups are maintained in controlled facilities that employ physical restrictions and safeguards such as security guards, identification badges, key cards, and locks.”

Retention and disposal:

Delete entry and replace with “CC Form 139-R, Cadet Enrollment Record is retained in the ROTC unit for 5 years after cadet leaves the institution or is disenrolled from the ROTC program.

Following successful completion of ROTC and academic programs and appointment as a commissioned officer with initial assignment to active duty for training, copy of pages 1 and 2 are reproduced and sent to the commandant of individual's basic branch course school. Records of rejected ROTC applicants are destroyed. Other records mentioned in preceding paragraphs are immediately destroyed unless the records are for financial assistance which are retained for 1 year then destroyed or if they are not required to become part of individual's Military Personnel Records Jacket.

ROTC QUEST records are retained for 3 years then destroyed. ROTC Scholarship application records are destroyed 1 year after graduation or disenrollment.

Paper records are destroyed by tearing, burning, melting, chemical decomposition, pulping, pulverizing, shredding, or mutilation. Electronic records and media are destroyed by overwriting, degaussing, disintegration, pulverization.”

System manager(s) and address:

Delete entry and replace with “Commander, US Army Human Resources Command, 1600 Spearhead Division Avenue, Fort Knox, KY 40122-5500.”

Notification procedure:

Delete entry and replace with “Individuals seeking to determine whether information about themselves is contained in this system should address written inquiries to the Commander, US Army Human Resources Command, 1600 Spearhead Division Avenue, Fort Knox, KY 40122-5500.

Individuals should provide their full name, current address, telephone number and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).' ”

Record access procedures:

Delete entry and replace with “Individuals seeking access to information about themselves contained in this system should address written inquiries to the Commander, US Army Human Resources Command, 1600 Spearhead Division Avenue, Fort Knox, KY 40122-5500.

Individuals should provide their full name, current address, telephone number and signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: 'I declare (or certify, verify, or state) under penalty of perjury that the foregoing is true and correct. Executed on (date). (Signature).' ”

Contesting record procedures:

Delete entry and replace with “The Army's rules for accessing records, contesting contents, and appealing initial agency determinations are contained in 32 CFR part 505, Army Privacy Program or may be obtained from the system manager.”

Record source categories:

Delete entry and replace with “From the individual, civilian educational institutions and staff, college registrars, dormitory directors, national testing organizations, honor societies, boys' clubs, boy scout organizations, Future Farmers of America, minority and civil rights organizations, fraternity and church organizations; neighborhood youth centers, YMCA, YWCA, social clubs, athletic clubs, scholarship organizations, U.S. Army Recruiting Command, Military Academy Liaison officers, West Point non-select listing, previous employers, trade organizations, and military service.”

* * * * *

[FR Doc. 2016-15097 Filed 6-24-16; 8:45 am]

BILLING CODE 5001-06-P